DEPARTMENT OF TRANSPORTATION

Federal Aviation Administration

14 CFR Part 39

[Docket No. FAA-2013-0789; Directorate Identifier 2013-NM-127-AD]

RIN 2120-AA64

Airworthiness Directives; The Boeing Company Airplanes

AGENCY: Federal Aviation Administration (FAA), DOT.

ACTION: Notice of proposed rulemaking (NPRM).

SUMMARY: We propose to supersede airworthiness directive (AD) 2012-12-08, which applies to certain The Boeing Company Model 777-200 and -300 series airplanes. AD 2012-12-08 requires an inspection for the part number of the fuse pin, and replacement of the pin if necessary. Since we issued AD 2012-12-08, we have determined that additional airplanes may be subject to the identified unsafe condition. This proposed AD would retain the actions required by AD 2012-12-08 and add airplanes to the applicability. We are proposing this AD to prevent structural damage to the side and drag brace lock assemblies, which could result in landing gear collapse during touchdown, rollout, or taxi.

DATES: We must receive comments on this proposed AD by November 4, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Melanie Violette, Aerospace Engineer, Airframe Branch, ANM-120S, FAA, Seattle Aircraft Certification Office, 1601 Lind Avenue SW., Renton, WA 98057-3356; phone: 425-917-6422; fax: 425-917-6590; email: melanie.violette@faa.gov.

SUPPLEMENTARY INFORMATION:

Comments Invited

We invite you to send any written relevant data, views, or arguments about this proposed AD. Send your comments to an address listed under the ADDRESSES section. Include “Docket No. FAA-2013-0789; Directorate Identifier 2013-NM-127-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On June 7, 2012, we issued AD 2012-12-08, Amendment 39-17088 (77 FR 37781, June 25, 2012) (“AD 2012-12-08”), for certain The Boeing Company Model 777-200 and -300 series airplanes. (A correction of AD 2012-12-08 was published in the Federal Register on July 20, 2012 (77 FR 42625)). AD 2012-12-08 requires an inspection for the part number of the fuse pin, and replacement of the pin if necessary. AD 2012-12-08 resulted from reports of cracked retract actuator fuse pins that could fail earlier than the previously determined safe life limit of the pins. A fractured retract actuator fuse pin can cause the main landing gear (MLG) to extend without restriction and attempt to lock into position under high dynamic loads. We issued AD 2012-12-08 to prevent structural damage to the side and drag brace lock assemblies, which could result in landing gear collapse during touchdown, rollout, or taxi.

Actions Since AD 2012-12-08 Was Issued

Since we issued AD 2012-12-08, it was discovered that an interchangeability error in the Boeing 777 Illustrated Parts Catalog (IPC) permitted replacing the new pin (-3) with the old pin (-1). Therefore, we have determined that additional airplanes may be subject to the identified unsafe condition.

Relevant Service Information

We reviewed Boeing Special Attention Service Bulletin 777-32-0083, Revision 2, dated May 2, 2013. For information on the procedures and compliance times, see this service information at http://www.regulations.gov by searching for Docket No. FAA-2013-0789.

FAA's Determination

We are proposing this AD because we evaluated all the relevant information and determined the unsafe condition described previously is likely to exist or develop in other products of these same type designs.

Proposed AD Requirements

Although this proposed AD does not explicitly restate the requirements of AD 2012-12-08, this proposed AD would retain all requirements of AD 2012-12-08. Those requirements are referenced in the service information identified previously, which, in turn, is referenced in paragraph (g) of this proposed AD. This proposed AD would add airplanes to the applicability statement of AD 2012-12-08.

Costs of Compliance

We estimate that this proposed AD affects 129 airplanes of U.S. registry.

We estimate the following costs to comply with this proposed AD:

Estimated Costs
Action | Labor cost | Parts cost | Cost per product | Cost on U.S. operators
Inspection | 5 work-hours × $85 per hour = $425 | $0 | $425 | $54,825

We estimate the following costs to do any necessary replacements that would be required based on the results of the proposed inspection. We have no way of determining the number of aircraft that might need these replacements:

On-Condition Costs
Action | Labor cost | Parts cost | Cost per product
Pin Replacement | 1 work-hour × $85 per hour = $85 per pin | $700 per pin | $785 per pin.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2012-12-08, Amendment 39-17088 (77 FR 37781, June 25, 2012; corrected July 20, 2012 (77 FR 42625)), and adding the following new AD:

The Boeing Company: Docket No. FAA-2013-0789; Directorate Identifier 2013-NM-127-AD.

(a) Comments Due Date

The FAA must receive comments on this AD action by November 4, 2013.

(b) Affected ADs

This AD supersedes AD 2012-12-08, Amendment 39-17088 (77 FR 37781, June 25, 2012; corrected July 20, 2012 (77 FR 42625)).

(c) Applicability

This AD applies to The Boeing Company Model 777-200 and -300 series airplanes, certificated in any category, as identified in Boeing Special Attention Service Bulletin 777-32-0083, Revision 2, dated May 2, 2013.

(d) Subject

Joint Aircraft System Component (JASC)/Air Transport Association (ATA) of America Code 32, Landing Gear.

(e) Unsafe Condition

This AD was prompted by a determination that additional airplanes may be subject to the identified unsafe condition. We are issuing this AD to prevent structural damage to the side and drag brace lock assemblies, which could result in landing gear collapse during touchdown, rollout, or taxi.

(f) Compliance

Comply with this AD within the compliance times specified, unless already done.

(g) Part Number Inspection and Replacement

Except as required by paragraph (h) of this AD, at the applicable time specified in paragraph 1.E., “Compliance,” of Boeing Special Attention Service Bulletin 777-32-0083, Revision 2, dated May 2, 2013: Inspect the retract actuator fuse pin to determine the part number, and replace any retract actuator fuse pin having part number 112W1769-1, in accordance with the Accomplishment Instructions of Boeing Special Attention Service Bulletin 777-32-0083, Revision 2, dated May 2, 2013. A review of airplane maintenance records is acceptable in lieu of this inspection if the part number of the retract actuator fuse pin can be conclusively determined from that review. Do all applicable replacements at the applicable time specified in paragraph 1.E., “Compliance,” of Boeing Special Attention Service Bulletin 777-32-0083, Revision 2, dated May 2, 2013.

(h) Exception to Service Information Specifications

Where Boeing Special Attention Service Bulletin 777-32-0083, Revision 2, dated May 2, 2013, specifies a compliance time “after the Revision 2 date of this service bulletin,” this AD requires compliance within the specified compliance time after the effective date of this AD.

(i) Parts Installation Prohibition

(1) For airplanes identified in Group 1 of Boeing Special Attention Service Bulletin 777-32-0083, Revision 2, dated May 2, 2013: As of July 30, 2012 (the effective date of AD 2012-12-08, Amendment 39-17088 (77 FR 37781, June 25, 2012; corrected July 20, 2012 (77 FR 42625)), no person may install a retract actuator fuse pin having part number 112W1769-1 on any airplane.

(2) For airplanes identified in Group 2 of Boeing Special Attention Service Bulletin 777-32-0083, Revision 2, dated May 2, 2013: As of the effective date of this AD, no person may install a retract actuator fuse pin having part number 112W1769-1 on any airplane.

(j) Credit for Previous Actions

(1) This paragraph provides credit for the actions specified in paragraph (g) of this AD, if those actions were performed before the effective date of AD 2012-12-08, Amendment 39-17088 (77 FR 37781, June 25, 2012; corrected July 20, 2012 (77 FR 42625)) using Boeing Special Attention Service Bulletin 777-32-0083, dated February 5, 2009, which is not incorporated by reference in this AD.

(2) This paragraph provides credit for the actions specified in paragraph (g) of this AD, if those actions were performed before the effective date of this AD using Boeing Special Attention Service Bulletin 777-32-0083, Revision 1, dated February 17, 2011, which is not incorporated by reference in this AD.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(l) Related Information

(1) For more information about this AD, contact Melanie Violette, Aerospace Engineer, Airframe Branch, ANM-120S, FAA, Seattle Aircraft Certification Office, 1601 Lind Avenue SW., Renton, WA 98057-3356; phone: 425-917-6422; fax: 425-917-6590; email: melanie.violette@faa.gov.

(2) For service information identified in this AD, contact Boeing Commercial Airplanes, Attention: Data & Services Management, P. O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Issued in Renton, Washington, on September 13, 2013.
Jeffrey E. Duven,
Acting Manager, Transport Airplane Directorate, Aircraft Certification Service.

[FR Doc. 2013-22784 Filed 9-18-13; 8:45 am]

BILLING CODE 4910-13-P